NATIONAL AERONAUTICS AND SPACE ADMINISTRATION

[Notice (21-073)]

Applied Sciences Advisory Committee; Meeting.

AGENCY: National Aeronautics and Space Administration.

ACTION: Notice of meeting.

SUMMARY: In accordance with the Federal Advisory Committee Act, as amended, the National Aeronautics and Space Administration (NASA) announces a meeting of the Applied Sciences Advisory Committee (ASAC). This Committee functions in an advisory capacity to the Director, Earth Science Division, in the NASA Science Mission Directorate. The meeting will be held for the purpose of soliciting, from the science community and other persons, scientific and technical information relevant to program planning. The meeting will be virtual-only.

DATES: Tuesday, December 7, 2021, 12:00 p.m.-4:00 p.m.; Wednesday, December 8, 2021, 11:00 a.m.-4:00 p.m.; and Thursday, December 9, 2021, 11:00 a.m.-4:00 p.m., Eastern Time.

SUPPLEMENTARY INFORMATION: This meeting will be available to the public by WebEx.

On Tuesday, December 7, the event address for attendees is: https://nasaenterprise.webex.com/nasaenterprise/j.php?MTID=me61d04bf47d0feb4d00210e19c813e78, the event number is 2760 060 0870, and event password is zJQ2qEPE$72 and 95727373 from your phone. To join by telephone, the numbers are 1-929-251-9612 or 1-415-527-5035. The access code is 276 006 00870.

On Wednesday, December 8, the event address for attendees is: https://nasaenterprise.webex.com/nasaenterprise/j.php?MTID=mf6ad435c075d9b5a71d15abcbb5c3aab, the event number is 2763 891 6967, and event password is 2FMvwm2NU*5 and 23689626 from your phone. To join by telephone, the numbers are 1-929-251-9612 or 1-415-527-5035. The access code is 276 389 16967.

On Thursday, December 9, the event address for attendees is: https://nasaenterprise.webex.com/nasaenterprise/j.php?MTID=mce43600238b0e8a7393e2e6c286d3cb0, the event number is 2761 822 5515, and event password is 63uHM2fmmm@and 63846236 from your phone. To join by telephone, the numbers are 1-929-251-9612 or 1-415-527-5035. The access code is 276 182 25515.

The agenda for the meeting includes the following topics:

• Earth Science and Applied Sciences Program Updates

• Applied Sciences Strategic Plan

• Private Sector Engagement Planning

The agenda will be posted on the Applied Sciences Advisory Committee web page: https://science.nasa.gov/science-committee/subcommittees/nac-earth-science-subcommittee/advisory-groups.

FOR FURTHER INFORMATION CONTACT: Ms. KarShelia Kinard, Science Mission Directorate, NASA Headquarters, Washington, DC 20546, (202) 358-2355, fax (202) 358-2779, or karshelia.kinard@nasa.gov.

It is imperative that the meeting be held on these dates to accommodate the scheduling priorities of the key participants.

Patricia Rausch,
Advisory Committee Management Officer, National Aeronautics and Space Administration.

[FR Doc. 2021-24626 Filed 11-10-21; 8:45 am]

BILLING CODE 7510-13-P